DEPARTMENT OF THE INTERIOR

Fish and Wildlife Service

[FWS-R9-IA-2008-N0072; 96300-1671-0000-P5]

Receipt of Applications for Permit

AGENCY: Fish and Wildlife Service, Interior.

ACTION: Notice of receipt of applications for permit.

SUMMARY: The public is invited to comment on the following applications to conduct certain activities with endangered species and marine mammals.

DATES: Written data, comments or requests must be received by May 23, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Zoological Society of San Diego, San Diego, CA, PRT-069323

The applicant requests an amendment and renewal of their permit to authorize the export and re-export of captive-bred/captive hatched live specimens and the export of viable eggs of California condors (Gymnogyps californianus) originating in the United States, as well as the re-export of wild live specimens of condors originating in Mexico, to La Secretaria de Medio Ambiente y Rescoursos Naturales (SEMARNAT), San Angel, Mexico, for re-introduction into the wild to enhance the survival of the species through completion of identified tasks and objectives mandated under the U.S. Fish and Wildlife Service California Condor Recovery Plan. This notification covers activities to be conducted by the applicant over a five-year period.

Applicant: Zoological Society of San Diego, San Diego, CA, PRT-057398.

The applicant requests an amendment and renewal of their permit to authorize the import of wild live specimens, viable and non-viable eggs, biological samples and salvaged materials of California condors (Gymnogyps californianus) originating in Mexico, as well as the re-import of captive-bred/captive hatched live specimens, viable and non-viable eggs, biological samples and salvaged materials of condors originating in the United States, to enhance the survival of the species through completion of identified tasks and objectives mandated under the U.S. Fish and Wildlife Service California Condor Recovery Plan. This notification covers activities to be conducted by the applicant over a five-year period.

Applicant: Memphis Zoo, Memphis, TN, PRT-052166.

The applicant requests renewal of their permit for scientific research with two giant pandas (Ailuropoda melanoleuca) currently held under loan agreement with the Government of China and under the provisions of the USFWS Panda Policy. The proposed research will cover all aspects of behavior, reproductive physiology, genetics, nutrition, and animal health and is a continuation of activities currently in progress. This notification covers activities to be conducted by the applicant over a five-year period.

Applicant: Thomas J. Hammond, Oakland Twp., MI, PRT-175465.

The applicant requests a permit to import the sport-hunted trophy of one cheetah (Acinonyx jubatus) taken in Namibia, for the purpose of enhancement of the survival of the species.

Applicant: Chattanooga Zoo, Chattanooga, TN, PRT-178755.

The applicant requests a permit to import one captive-born male jaguar (Panthera onca) from Complejo Ecologico Municipal, Presidencia Roque Sáenz Peña, Argentina, for the purpose of enhancement of survival of the species.

Marine Mammals

The public is invited to comment on the following application for a permit to conduct certain activities with marine mammals. The application was submitted to satisfy requirements of the Marine Mammal Protection Act of 1972, as amended (16 U.S.C. 1361 et seq.), and the regulations governing marine mammals (50 CFR Part 18). Written data, comments, or requests for copies of the complete application or requests for a public hearing on this application should be submitted to the Director (ADDRESSES above). Anyone requesting a hearing should give specific reasons why a hearing would be appropriate. The holding of such a hearing is at the discretion of the Director.

Applicant: Jimmie R. Ryan, Alabaster, AL, PRT-179123.

The applicant requests a permit to import a polar bear (Ursus maritimus) sport hunted from the Southern Beaufort Sea polar bear population in Canada for personal, noncommercial use.

Dated: March 21, 2008.
Lisa J. Lierheimer,
Senior Permit Biologist, Branch of Permits, Division of Management Authority.

[FR Doc. E8-8765 Filed 4-22-08; 8:45 am]

BILLING CODE 4310-55-P